DEPARTMENT OF ENERGY

Federal Energy Regulatory Commission

[Docket No. CP14-517-001]

Golden Pass LNG Terminal LLC; Notice of Schedule for the Preparation of an Environmental Assessment for the Golden Pass LNG Export Variance Request No. 15 Amendment Project

On February 25, 2021 and supplemented on May 19, 2021, Golden Pass LNG Terminal LLC (Golden Pass) filed a Golden Pass LNG Export Project Variance Request No. 15 Amendment (Amendment). The Amendment involves modification to the ongoing construction workforce and work hours at the authorized Golden Pass LNG Export Terminal, in Jefferson County, Texas. If authorized, the Amendment would increase the workforce numbers, amount of traffic volume, and work week/hour limits that were not previously reviewed during preparation of the final Environmental Impact Statement (EIS) for the Golden Pass LNG Export Project (Docket Nos. CP14-517-000 and CP14-518-000), which the Commission authorized on December 21, 2016. Golden Pass's proposed Amendment would increase construction to 24-hour-day and 7 days a week at the Golden Pass LNG Export Terminal throughout the remaining construction period, which it anticipates completing in 2025.

¹ Members of Congress, Sean Casten, Cheri Bustos, Bradley S. Schneider, and Danny K. Davis.

On November 3, 2021 the Federal Energy Regulatory Commission (Commission or FERC) issued its Notice of Amendment for the proposed project variance request No. 15. Among other things, that notice alerted agencies issuing federal authorizations of the requirement to complete all necessary reviews and to reach a final decision on a request for a federal authorization within 90 days of the date of issuance of the Commission staff's environmental document for the Project.

This notice identifies Commission staff's intention to prepare an environmental assessment (EA) for the Amendment and the planned schedule for the completion of the environmental review.¹

¹ 40 CFR 1501.10 (2020).

Schedule for Environmental Review

Issuance of EA—February 7, 2022

90-Day Federal Authorization Decision Deadline—May 9, 2022

If a schedule change becomes necessary, additional notice will be provided so that the relevant agencies are kept informed of the Amendment's progress.

Project Amendment Description

Golden Pass identified the need for an increased workforce at the Golden Pass LNG Export Terminal site. The final EIS for the Golden Pass LNG Export Project reviewed a peak construction workforce of 2,900 employees; Golden Pass is requesting the authority to increase the potential peak workforce to 7,700 workers per day. Golden Pass is also requesting the authority to increase traffic volumes to accommodate the additional workforce, and a 7-day-per-week, 24-hour-per-day, construction schedule for the remaining construction period at the terminal site; Golden Pass anticipates completing the Golden Pass LNG Export Project in 2025. There are no revisions to land requirements for the Amendment.

Background

On November 10, 2021, the Commission issued a Notice of Scoping Period Requesting Comments on Environmental Issues for the Proposed Golden Pass LNG Export Variance Request No. 15 Amendment Project and Notice of Public Scoping Session (Notice of Scoping). The Notice of Scoping was sent to affected landowners; federal, state, and local government agencies; elected officials; environmental and public interest groups; Native American tribes; other interested parties; and local libraries and newspapers. In response to the Notice of Scoping, the Commission received comments from the Sierra Club, James D. Kemp, RESTORE, Alfred V. Duhamel, and Donald F. Breeden expressing concerns on light pollution, air quality, noise pollution, impacts on socioeconomics and environmental justice communities, greenhouse gas emissions, climate change, public health and safety, and access to non-proprietary information. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” (i.e., CP14-517), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: December 21, 2021.
Kimberly D. Bose,
Secretary.

[FR Doc. 2021-28210 Filed 12-27-21; 8:45 am]

BILLING CODE 6717-01-P